DEPARTMENT OF JUSTICE

Antitrust Division

Notice Pursuant to the National Cooperative Research and Production Act of 1993; Enterprise Computer Telephony Forum

Notice is hereby given that, on July 8, 1999, pursuant to section 6(a) of the National Cooperative Research and Production Act of 1993, 15 U.S.C. 4301 et seq. (“the Act”), Enterprise Computer Telephony Forum (“ECTF“) has filed written notifications simultaneously with the Attorney General and the Federal Trade Commission disclosing changes in its membership status. The notifications were filed for the purpose of extending the Act's provisions limiting the recovery of antitrust plaintiffs to actual damage under specified circumstances. Specifically, CCS Trexcom, Inc., Norcross, GA; Witness Systems, Inc., Alpharetta, GA; Ariel Corporation, Cranbury, NJ; Blue Wave Systems, Leicestershire, United Kingdom; BST Communication Technology, Ltd., Guangzhou, China; Communiq ASA, Sola, Norway; Etex-Sprachsynthese AG, Frankfort, Germany; Global Communications Systems Research, Alexandria, VA; Industrial Technology Research Institute, Taejon, Korea; Inter-Tel, Inc., Chandler, AZ; and Logic Ltd., Aldermaston, United Kingdom have been added as parties to this venture. Also, Advanced Digital Telephony, Altadena, CA; Amteva Technologies, Inc., Glen Allen, VA; Computer Communication Specialists, Norcross, GA; British Telecom, Sundbury, United Kingdom; Comdial, Charlottesville, VA; and Systems Integration, Ltd., Aldermaston, United Kingdom have been dropped as parties to this venture.

No other changes have been made in either the membership or planned activity of the group research project. Membership in this group research project remains open, and Enterprise Computer Telephony Forum (“ECTF”) intends to file additional written notification disclosing all changes in membership.

On February 20, 1996, Enterprise Computer Telephony Forum (“ECTF”) filed its original notification pursuant to section 6(a) of the Act. The Department of Justice published a notice in the Federal Register pursuant to section 6(b) of the Act on May 13, 1996 (61 FR 22074).

The last notification was filed with the Department on April 1, 1999. A notice has not yet been published in the Federal Register.

Constance K. Robinson,
Director of Operations, Antitrust Division.

[FR Doc. 00-6954 Filed 3-20-00; 8:45 am]

BILLING CODE 4410-11-M